ENVIRONMENTAL PROTECTION AGENCY

40 CFR Part 52

[EPA-R06-OAR-2014-0821; FRL-9950-18-Region 6]

Approval and Promulgation of Implementation Plans; Louisiana; Revisions to the New Source Review State Implementation Plan; Air Permit Procedure Revisions

AGENCY: Environmental Protection Agency (EPA).

ACTION: Final rule.

SUMMARY: The Environmental Protection Agency (EPA) is approving portions of revisions to the Louisiana New Source Review (NSR) State Implementation Plan (SIP) submitted by the Louisiana Department of Environmental Quality. These revisions to the Louisiana SIP provide updates to the minor NSR and nonattainment new source review (NNSR) permit programs in Louisiana contained within the Chapter 5 Permit Procedures and Chapter 6 Regulations on Control of Emissions through the Use of Emission Reduction Credits (ERC) Banking rules.

DATES: This final rule is effective on September 6, 2016.

ADDRESSES: The EPA has established a docket for this action under Docket ID No. EPA-R06-OAR-2014-0821. All documents in the docket are listed on the http://www.regulations.gov Web site. Although listed in the index, some information is not publicly available, e.g., Confidential Business Information or other information whose disclosure is restricted by statute. Certain other material, such as copyrighted material, is not placed on the Internet and will be publicly available only in hard copy form. Publicly available docket materials are available either electronically through http://www.regulations.gov or in hard copy at the EPA Region 6, 1445 Ross Avenue, Suite 700, Dallas, Texas 75202-2733.

FOR FURTHER INFORMATION CONTACT: Stephanie Kordzi, 214-665-7520, Kordzi.stephanie@epa.gov.

SUPPLEMENTARY INFORMATION: Throughout this document wherever “we,” “us,” or “our” is used, we mean the EPA.

I. Background

The background for this action is discussed in detail in our April 20, 2016, proposal (81 FR 23232). In that document, we proposed to approve portions of ten SIP submittals for the State of Louisiana. These amendments enhance the SIP by (1) defining insignificant activities that will not require permitting; (2) correcting contradictory language in the insignificant activities list; (3) providing edits to the Permit Procedure Rule as requested by the EPA; (4) including procedures for incorporating test results; (5) unifying and streamlining name and ownership changes for all media; and (6) revising references to various LDEQ divisions. This action is being taken under section 110 of the Act. We did not receive any comments regarding our proposal although the LDEQ did send a letter to the EPA on July 14, 2016, to update information on sections 525, 527, and 529.

II. Final Action

We are approving the revisions to the Louisiana SIP as proposed in our April 20, 2016, proposal (81 FR 23232), with the exception of sections 525, 527, and 529, as discussed below. This includes SIP submittals from the State of Louisiana submitted on November 15, 1993, November 10, 1994, July 25, 1997, June 22, 1998, June 27, 2003, May 5, 2006, November 9, 2007, August 14, 2009, August 29, 2013, and November 3, 2014. These revisions provide clarity to the rules, correct contradictory language, update permit application and fee requirements, revise the rules to conform to the latest Louisiana laws, and add to the “Insignificant Activities List”. We approve the revisions to the SIP that meet CAA requirements. Specifically, we are approving revisions to the Louisiana SIP pertaining to the following sections:

• LAC 33:III.501 as submitted on November 15, 1993, November 10, 1994, June 22, 1998, June 27, 2003, May 5, 2006, November 9, 2007, August 14, 2009; and November 3, 2014;

• LAC 33:III.502 as submitted on November 15, 1993, and November 3, 2014;

• LAC 33:III.503 as submitted on November 15, 1993, and November 3, 2014;

• LAC 33:III.504 as submitted on November 3, 2014;

• LAC 33:III.511 as submitted on November 15, 1993;

• LAC 33:III.513 as submitted on November 15, 1993, and November 9, 2007;

• LAC 33:III.515 as submitted on November 15, 1993;

• LAC 33:III.517 as submitted on November 15, 1993, November 10, 1994, July 25, 1997, June 22, 1998, and May 5, 2006;

• LAC 33:III.519 as submitted on November 15, 1993;

• LAC 33:III.521 as submitted on November 10, 1994, and May 5, 2006;

• LAC 33:III.523 as submitted on November 15, 1993, August 29, 2013, and November 3, 2014;

• LAC 33:III.601 as submitted on November 3, 2014;

• LAC 33:III.603 as submitted on November 3, 2014;

• LAC 33:III.605 as submitted on November 3, 2014;

• LAC 33:III.607 as submitted on November 3, 2014;

• LAC 33:III.615 as submitted on November 3, 2014; and

• LAC 33:III.619 as submitted on November 3, 2014.

The EPA is not taking final action as proposed on the Louisiana SIP at this time pertaining to the following sections based on LDEQ's letter of July 14, 2016, which withdrew portions of sections 525, 527, and 529 because they apply exclusively to part 70 sources. The letter specifically identified citations that are already approved into Louisiana's Operating Permits program. EPA will take action on the portion of the citations in these sections that have not been withdrawn in a future action:

• LAC 33:III.525 as submitted on November 15, 1993;

• LAC 33:III.527 as submitted on November 15, 1993, and November 10, 1994; and

• LAC 33:III.529 as submitted on November 15, 1993.

This action is being taken under section 110 of the Act.

III. Incorporation by Reference

In this rule, we are finalizing regulatory text that includes incorporation by reference. In accordance with the requirements of 1 CFR 51.5, we are finalizing the incorporation by reference of the revisions to the Louisiana regulations as described in the Final Action section above. We have made, and will continue to make, these documents generally available electronically through www.regulations.gov and/or in hard copy at the EPA Region 6 office.

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 3, 2016. Filing a petition for reconsideration by the Administrator of this final rule does not affect the finality of this action for the purpose of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: July 26, 2016.
Ron Curry,
Regional Administrator, Region 6.

40 CFR part 52 is amended as follows:

PART 52—APPROVAL AND PROMULGATION OF IMPLEMENTATION PLANS

1. The authority citation for part 52 continues to read as follows:

Authority: 42 U.S.C. 7401 et seq.

Subpart T—Louisiana

2. In § 52.970(c), the table titled “EPA Approved Louisiana Regulations in the Louisiana SIP” is amended by revising the entries for Sections 501, 503, 504, 601, 603, 605, 607, 615, and 619 and adding entries in numerical order for Sections 502, 511, 513, 515, 517, 519, 521, and 523 to read as follows:

§ 52.970 Identification of plan.

* * * * *

(c) * * *

EPA-Approved Louisiana Regulations in the Louisiana SIP
State citation | Title/subject | State approval date | EPA approval date | Comments
* * * * * * *
Section 501 | Scope and Applicability | 5/20/2011 | 8/4/2016 [Insert Federal Register citation] | The SIP does not include LAC 33:III.501.B.1.d. and LAC 33:III.501.B.2.d.i.(a).
Section 502 | Definitions | 5/20/2011 | 8/4/2016 [Insert Federal Register citation]
Section 503 | Minor Source Permit Requirements | 4/20/2011 | 8/4/2016 [Insert Federal Register citation]
Section 504 | Nonattainment New Source Review (NNSR) Procedures | 11/20/2012 | 8/4/2016 [Insert Federal Register citation] | The SIP does not include LAC 33:III.504.M.
* * * * * * *
Section 511 | Emission Reductions | 11/20/1993 | 8/4/2016 [Insert Federal Register citation]
Section 513 | General Permits, Temporary Sources, and Relocation of Portable Facilities | 10/20/2006 | 8/4/2016 [Insert Federal Register citation] | The SIP does not include LAC 33:III.513.A.1.
Section 515 | Oil and Gas Wells and Pipelines Permitting Provisions | 11/20/1993 | 8/4/2016 [Insert Federal Register citation]
Section 517 | Permit Applications and Submittal of Information | 12/20/1997 | 8/4/2016 [Insert Federal Register citation]
Section 519 | Permit Issuance Procedures for New Facilities, Initial Permits, Renewals and Significant Modifications | 11/20/1993 | 8/4/2016 [Insert Federal Register citation] | The SIP does not include LAC 33:III.519.C.
Section 521 | Administrative Amendments | 5/20/2005 | 8/4/2016 [Insert Federal Register citation]
Section 523 | Procedures for Incorporating Test Results | 4/20/2011 | 8/4/2016 [Insert Federal Register citation]
Chapter 6—Regulations on Control of Emissions Reduction Credits Banking
Section 601 | Purpose | 11/20/2012 | 8/4/2016 [Insert Federal Register citation]
Section 603 | Applicability | 11/20/2012 | 8/4/2016 [Insert Federal Register citation]
Section 605 | Definitions | 11/20/2012 | 8/4/2016 [Insert Federal Register citation]
Section 607 | Determination of Creditable Emission Reductions | 11/20/2012 | 8/4/2016 [Insert Federal Register citation]
* * * * * * *
Section 615 | Schedule for Submitting Applications | 11/20/2012 | 8/4/2016 [Insert Federal Register citation]
* * * * * * *
Section 619 | Emission Reduction Credit Bank | 11/20/2012 | 8/4/2016 [Insert Federal Register citation]
* * * * * * *

* * * * *

[FR Doc. 2016-18397 Filed 8-3-16; 8:45 am]

BILLING CODE 6560-50-P